DEPARTMENT OF COMMERCE

International Trade Administration

[A-588-856, A-580-846, A-469-810]

Stainless Steel Angle From Japan, the Republic of Korea, and Spain: Final Results of Sunset Reviews and Revocation of Orders

AGENCY: Import Administration, International Trade Administration, Department of Commerce.

SUMMARY: On April 3, 2006, the Department of Commerce (Department) initiated the sunset reviews of the antidumping duty orders on stainless steel angle from Japan, the Republic of Korea (Korea), and Spain (71 FR 16551). Because the domestic interested parties did not participate in these sunset reviews, the Department is revoking these antidumping duty orders.

EFFECTIVE DATE: May 18, 2006.

FOR FURTHER INFORMATION CONTACT: Jill Pollack or Brandon Farlander, Import Administration, International Trade Administration, U.S. Department of Commerce, 14th Street and Constitution Avenue, NW., Washington, DC 20230; telephone: (202) 482-4593 or (202) 482-0182, respectively.

SUPPLEMENTARY INFORMATION:

Background

On May 18, 2001, the Department issued antidumping duty orders on stainless steel angle from Japan, Korea, and Spain (66 FR 27628). On April 3, 2006, the Department initiated sunset reviews of these orders. See Initiation of Five-year (Sunset) Reviews, 71 FR 16551 (Apr. 3, 2006).

We did not receive a notice of intent to participate from domestic interested parties in any of these sunset reviews by the deadline date. As a result, in accordance with 19 CFR 351.218(d)(1)(iii)(A), the Department determined that no domestic interested party intends to participate in the sunset reviews, and on April 24, 2006, we notified the International Trade Commission, in writing, that we intended to issue final determinations revoking these antidumping duty orders. See 19 CFR 351.218(d)(1)(iii)(B)(2).

Scope of the Orders

For purposes of these orders, the term “stainless steel angle” includes hot-rolled, whether or not annealed or descaled, stainless steel products of equal leg length angled at 90 degrees, that are not otherwise advanced. The stainless steel angle subject to these orders is currently classifiable under subheadings 7222.40.30.20 and 7222.40.30.60 of the Harmonized Tariff Schedule of the United States (HTSUS). Specifically excluded from the scope of these orders is stainless steel angle of unequal leg length. Although the HTSUS subheadings are provided for convenience and customs purposes, our written description of the scope of these orders is dispositive.

Determination to Revoke

Pursuant to section 751(c)(3)(A) of the Tariff Act of 1930, as amended (the Act), and 19 CFR 351.218(d)(1)(iii)(B)(3), if no domestic interested party files a notice of intent to participate, the Department shall, within 90 days after the initiation of the review, issue a final determination revoking the order. Because the domestic interested parties did not file a notice of intent to participate in these sunset reviews, the Department finds that no domestic interested party is participating in these sunset reviews. Therefore, consistent with 19 CFR 351.222(i)(1)(i) and section 751(c)(3) of the Act, we are revoking these antidumping duty orders. The effective date of revocation is May 18, 2006, the fifth anniversary of the date the Department published these antidumping duty orders. See 19 CFR 351.222(i)(2)(i).

Effective Date of Revocation

Pursuant to section 751(c)(3)(A) of the Act and 19 CFR 351.222(i)(2)(i), the Department will instruct U.S. Customs and Border Protection to terminate the suspension of liquidation of the merchandise subject to these orders entered, or withdrawn from warehouse, on or after May 18, 2006. Entries of subject merchandise prior to the effective date of revocation will continue to be subject to suspension of liquidation and antidumping duty deposit requirements. The Department will complete any pending administrative reviews of these orders and will conduct administrative reviews of subject merchandise entered prior to the effective date of revocation in response to appropriately filed requests for review.

These five-year (sunset) reviews and notice are in accordance with sections 751(c) and 777(i)(1) of the Act.

Dated: June 9, 2006.
David M. Spooner,
Assistant Secretary for Import Administration.

[FR Doc. E6-9367 Filed 6-14-06; 8:45 am]

BILLING CODE 3510-DS-S